DEPARTMENT OF LABOR

Employment and Training Administration

[TA-W-70,384; TA-W-70,384A]

National Mills, Inc. Including On-Site Leased Workers From Manpower Temp Service, Pittsburg, KS; National Mills, Inc. Executive Offices, Marriam, KS; Amended Certification Regarding Eligibility To Apply for Worker Adjustment Assistance

In accordance with Section 223 of the Trade Act of 1974, as amended (“Act”), 19 U.S.C. 2273, the Department of Labor issued a Certification of Eligibility to Apply for Worker Adjustment Assistance on June 26, 2009, applicable to workers of National Mills, Inc., including on-site leased workers from Manpower Temp Service, Pittsburg, Kansas. The notice was published in the Federal Register on August 19, 2009 (74 FR 41935).

At the request of a company official, the Department reviewed the certification for workers of the subject firm. The workers are engaged in activities related to the production of fashion decorated T-shirts.

The company reports that worker separations occurred at the Executive Offices, Merriam, Kansas location of the subject firm. The Executive Offices provides administrative, sales and financial service functions for the subject firm's production facility in Pittsburg, Kansas.

Accordingly, the Department is amending this certification to include workers of the National Mills, Inc., Executive Offices, Merriam, Kansas.

The intent of the Department's certification is to include all workers of the subject firm who were adversely affected by the shift in production of fashion decorated T-shirts to Honduras.

The amended notice applicable to TA-W-70,384 is hereby issued as follows:

All workers of National Mills, Inc., including on-site leased workers from Manpower Temp Service, Pittsburg, Kansas (TA-W-70,384), and National Mills, Inc., Executive Offices, Merriam, Kansas (TA-W-70,384A), who became totally or partially separated from employment on or after May 19, 2008 through June 26, 2011, and all workers in the group threatened with total or partial separation from employment on date of certification through two years from the date of certification, are eligible to apply for adjustment assistance under Chapter 2 of Title II of the Trade Act of 1974, as amended.

Elliott S. Kushner,
Certifying Officer, Division of Trade Adjustment Assistance.

[FR Doc. E9-23912 Filed 10-2-09; 8:45 am]

BILLING CODE P